DEPARTMENT OF JUSTICE

Antitrust Division

Notice Pursuant to the National Cooperative Research and Production Act of 1993—Aerospace Vehicle Systems Institute (“AVSI”) Cooperative

Notice is hereby given that, on November 7, 2000, pursuant to Section 6(a) of the National Cooperative Research and Production Act of 1993, 15 U.S.C. 4301 et seq. (“the Act”), Aerospace Vehicle Systems Institute (“AVSI”) Cooperative has filed written notifications simultaneously with the Attorney General and the Federal Trade Commission disclosing changes in its membership status and planned activities. The notifications were filed for the purpose of extending the Act's provisions limiting the recovery of antitrust plaintiffs to actual damages under specified circumstances. Specifically, Textron Company, acting through its Cessna Aircraft Company, Wichita, KS; and Science Applications International Corporation, San Diego, CA have been added as parties to this venture. Also, Moog Inc., East Aurora, NY has been dropped as a party to this venture. Additionally, the AVSI Cooperative intends to undertake the following joint research projects:

“Systems Engineering and Information Management II—Collaborative Development”—To investigate methods for electronic connections, corporate proprietary policies, and recommended tools for a prototype secure, electronic collaboration capability to allow multiple supplier participation in aerospace systems development.

“Tools and Best Practices for Implementing RTCA D254”—To generate guidance, templates, tools, key documents/artifacts and examples to allow aerospace electronic suppliers to efficiently incorporate the requirements of RTCA D254, “Design Assurance Guidance for Airborne Electronic Hardware” into their electronic hardware design process.

“Develop the ‘How-To’ of a Qualified Compiler and Linker”—To develop a technical plan for the development of a qualified compiler & linker that can be used with auto-code generation capabilities of several modeling and simulation tools to improve the software requirement, development and validation process.

“Electronic Component Parts Obsolescence Forecasting Tool, Phase 1 Software Tool Development”—To develop a software tool to forecast when an electronic component is likely to become obsolete in order to provide guidance for long term parts management.

No other changes have been made in either the membership or planned activity of the group research project. Membership in this group research project remains open, and “AVSI” Cooperative intends to file additional written notification disclosing all changes in membership.

On November 18, 1998, AVSI Cooperative filed its original notification pursuant to Section 6(a) of the Act. The Department of Justice published a notice in the Federal Register pursuant to Section 6(b) of the Act on February 18, 1999 (64 FR 8123).

The last notification was filed with the Department on June 7, 2000. A notice has not yet been published in the Federal Register.

Constance K. Robinson,
Director of Operations, Antitrust Division.

[FR Doc. 01-5069 Filed 3-1-01; 8:45 am]

BILLING CODE 4410-11-M